DEPARTMENT OF HEALTH AND HUMAN SERVICES

Administration for Children and Families

Proposed information Collection Activity; Comment Request

Proposed Projects

Title: Social Services Block Grant Postexpenditure Report.

OMB No. 0970-0234.

Description:

Purpose: To improve the quality of Social Services Block Grant (SSBG) expenditure data, the postexpenditure reporting form and instructions need minor formatting revisions to reduce confusion and reporting inconsistencies that have resulted from the current form. As a block grant, SSBG provides the States with a flexible source of funds for social service needs. Accurate accounting of how these funds are used and whom they serve is critical to ensure that necessary and sufficient funding continues to be allocated. For this reason, the following changes are being proposed to the current form:

1. The expenditures columns will be reordered so that when reading left to right, the three types of funding that sum to total expenditures—SSBG allocation, funds transferred into SSBG, and expenditures of all other Federal, State, and local funds—are listed prior to total expenditures.

2. A space will be added, and referenced in item 29, where States can report more detail about other services. This added information will help to define the specific services funded under this service category.

3. The column for total adults will be removed. A new column, “Adults of Unknown Age” will be added. The three age groups of adults—“Adults Age 59 and younger,” “Adults Age 60 and older,” and “Adults of Unknown Age”—should equal the total number of adults.

4. The recipients columns will be reordered so that when reading left to right, the four ages of recipients—children, adults age 59 and younger, adults age 60 and older, and adults of unknown age—are listed prior to total recipients.

The SSBG program provides funds to assist States in delivering social services directed toward the needs of children and adults in each State. Funds are allocated to the States in proportion to their populations. States, including the District of Columbia, Guam, Puerto Rico, the Virgin Islands, the Northern Mariana Islands, and American Samoa, have substantial discretion in their use of funds and may determine what services will be provided, who will be eligible, and how funds will be distributed among the various services. State or local SSBG agencies (i.e., county, city, or regional offices) may provide the services or may purchase them from qualified agencies, organizations, or individuals. States report as recipients of SSBG-funded services any individuals who receive a service funded at least partially by SSBG.

States are required to report their annual SSBG expenditures on a standard postexpenditure report, which includes a yearly total of adults and children served and annual expenditures in each of 29 service categories. Reporting requirements for SSBG were originally described in the Federal Register, Volume 58, Number 218, on Monday, November 15, 1993. The report is due either 6 months after the end of the reporting period or at the time the State submits the preexpenditure report for the reporting period beginning after that 6 month period. The report must address: (1) The number of individuals (as well as number of children and number of adults) who receive services paid for in whole or in part with Federal funds under the Social Services Block Grant; (2) The amount of Social Services Block Grant funds spent in providing each service; (3) The total amount of Federal, State, and local funds spent in providing each service, including Social Services Block Grant funds; and (4) The method(s) by which each service is provided, showing separately the services provided by public agencies and private agencies.

Information collected on the postexpenditure report is analyzed and described in an annual report on SSBG expenditures and recipients produced by the Office of Community Services. The information contained in this report is used to establish how SSBG funding is used for the provision of services in each State to each of many specific populations of needy individuals.

Respondents: This report is completed once annually by a representative of the agency that administers the Social Services Block Grant at the State level in each State, the District of Columbia, and the Territories.

Annual Burden Estimates
Instrument | Number of respondents | Number of responses per respondent | Average burden hours per response | Total burden hours
Postexpenditure Report | 56 | 1 | 110 | 6,160

Estimated Total Annual Burden Hours: 6,160.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20477, Attn: ACF Reports Clearance Officer. E-mail address:grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 26, 2004.
Robert Sargis,
Reports Clearance Officer.

[FR Doc. 04-24349 Filed 10-29-04; 8:45 am]

BILLING CODE 4184-01-M